DEPARTMENT OF TRANSPORTATION

Federal Aviation Administration

[Docket No. FAA-2025-0092]

Notice of Availability of FAA Notice N 8100.20 Regarding Organization Designation Authorization (ODA) Holder Ethics Training

AGENCY: Federal Aviation Administration (FAA), DOT.

ACTION: Notice of availability.

SUMMARY: FAA Notice N 8100.20, Organization Designation Authorization (ODA) Holder Ethics Training for Unit Members (UM) and Administrators, provides initial implementation of a requirement of the FAA Reauthorization Act of 2024, that FAA ensure that each ODA holder has in effect a recurrent training program for all ODA unit personnel.

FOR FURTHER INFORMATION CONTACT: Mr. Scott Geddie, Policy and Oversight Integration Section, AVS-64, AVS ODA Office, Federal Aviation Administration, by telephone at 405-954-6897 or by email at Scott.Geddie@faa.gov.

SUPPLEMENTARY INFORMATION:

Background

The FAA Reauthorization Act of 2024, Public Law 118-63 (2024) (the Act), amended Title 49 United States Code (U.S.C.) section 44736 by imposing several requirements specific to the FAA's oversight of ODA holders. Section 304 of the Act added one such requirement to 49 U.S.C. 44736; paragraph (g), Ethics Training Requirement for ODA Holders. Paragraph (g) requires the FAA to ensure that each ODA holder has in effect a recurrent training program, reviewed by the FAA, for all ODA unit personnel. Paragraph (g) also requires all ODA unit personnel to complete such ethics training within 60 days of appointment and annually thereafter, and requires the FAA to establish the necessary processes to ensure that this training occurs. Notice N 8100.20 provides initial implementation of the statutory requirement for ODA holders to develop and provide, and for all ODA unit personnel to complete, initial and recurrent ethics training. The FAA intends to incorporate the policies established in this Notice into a future revision of FAA Order 8100.15, Organization Designation Authorization Procedures.

Comments

A proposed version of Notice N 8100.20 was published in the Federal Register and made available for public comment from June 17, 2025, through July 17, 2025 (90 FR 25530, June 17, 2025). The FAA received 62 public comments from a range of stakeholders, including industry associations and 12 of the 75 current ODA holders. Organizations submitting comments included AeroMech Inc., the Air Line Pilots Association, Airlines for America, American Airlines Inc., Textron Aviation Inc., The Boeing Company, Delta Airlines, Garmin International Inc., General Aviation Manufacturers Association, Gulfstream Aerospace Corporation, Heico Aerospace Corporation, Kilroy Aviation LLC, Lycoming Engines, Mammoth Freighters LLC, and Rolls-Royce Corporation. Most commenters suggested relatively minor changes to facilitate the implementation of the statutory requirement of 49 U.S.C. 44736(g).

FAA Developed Training and UMs Employed by Multiple ODAs

Several commenters recommended that the FAA develop a standardized ethics training program for ODA UMs and administrators. Some commenters further suggested that completion of ethics training by a UM at one ODA holder should satisfy the ethics training requirement for any other ODA holder employing the same UM.

The FAA does not agree with the requests. The Act requires each ODA holder to have a recurrent training program in effect that covers its own processes and procedures as described in its approved procedures manual. The FAA acknowledges there may be common elements among ODA holders' ethics training programs. However, variations in ODA holders' operations and organizational structures preclude the establishment of a single, standardized ethics training program applicable to all ODA holders. The FAA considers ethics training to be a holistic approach intended to instill professionalism among ODA UMs and administrators and to support the safety culture of each organization. The FAA does not intend to develop a standardized ethics training program or to permit the transferability of ethics training between ODA holders. Each ODA holder remains responsible for (1) providing ethics training to its UMs in accordance with its own procedures and (2) ensuring continued compliance with statutory requirements.

Delay Implementation and Duplication of Training

Multiple commenters expressed concern that the timeline for developing and delivering the required training is insufficient. Commenters also recommended delaying implementation of Notice N 8100.20 to coincide with the next revision of FAA Order 8100.15. One commenter stated that the Notice is unnecessary due to overlap with existing training requirements.

The FAA does not agree with the requests. The Act established the timeline to implement the required ethics training and the FAA determined an extension of the training delivery period is not warranted. Notice N 8100.20 authorizes Organizational Management Team (OMT) managers to grant extensions to ODA holders, as necessary, for the development of ethics training. If a UM does not complete the required training within 60 business days after the OMT's approval of the ethics training, that UM may not exercise the functions delegated and responsibilities under the ODA until the training is completed. The FAA recognizes that there may be some overlap with existing training requirements. The training requirements outlined in paragraph 5.a.(4) and (5) of the Notice were previously mandated to be completed once every two years by FAA Order 8100.15B and Notice N 8100.19. Notice N 8100.20 changes the frequency of these requirements to an annual basis, as required by the Act.

Required Language in ODA Procedures Manuals

One commenter questioned the necessity for ODA procedures manuals to include the specific language found in paragraph 5.b.(1) of draft Notice N 8100.20, which requires ODA procedures manuals to specify “existing ODA Unit Members (UMs) and administrators must complete the required ethics training within 60 business days after the Organizational Management Team (OMT) approves the ODA's revised Procedures Manual incorporating ethics training, and annually thereafter, in order to continue exercising the functions and responsibilities delegated under the ODA.” The FAA agrees to clarify this requirement. The FAA restructured paragraphs 5.b.(1) through (3) to state that an ODA holder's revised procedures manual must specify when existing ODA UMs and administrators must complete initial ethics training, when newly appointed ODA UMs and administrators must complete initial ethics training, and that the ODA UM or administrator must have completed the ethics training in the previous 12 months to meet the annual ethics training requirements. The ODA holder's revised procedures manual must also specify that the initial and annual ethics training requirements must be completed prior to exercising authorized functions and responsibilities under the ODA. This requirement is mandated to ensure compliance with the accountability provisions set forth in the Act.

Terms To Identify Training Requirements

A commenter suggested that FAA use terms such as initial qualification, recurrent qualification, requalification, or transition training to designate ethics training.

The FAA does not agree with the request. Integrating new terms to designate ODA holder training requirements is beyond the scope of Notice N 8100.20.

Clarifications and Consistency

Multiple commenters requested that FAA clarify the meaning of “annually” as it relates to training intervals. The FAA agrees to clarify the language. The FAA revised the relevant language to specify “in the previous 12 months prior” rather than “annually thereafter” to clarify the intended interval for recurring training requirements.

One commenter requested that FAA clarify the term “code of ethics.” The FAA agrees and has revised the language to specify that the code of ethics must specify that safety is of the highest priority.

Multiple commenters requested that FAA clarify the requirements for training on professionalism and for promoting a clear understanding among ODA UMs and administrators of the purpose and procedures associated with Safety Management Systems (SMS). The commenters noted that training on “professionalism” is duplicated in Notice N 8100.20. Commenters also sought to distinguish the training requirements as they relate to an ODA holder's SMS. The commenters requested that FAA clarify whether training should address the requirements of Title 14, Code of Federal Regulations (CFR) Part 5, for ODA holders required to have an SMS, or the provisions of the International Civil Aviation Organization (ICAO) Safety Management Manual (SMM) (Doc 9859), or any successor edition, for ODA holders not required to have an SMS.

The FAA agrees to clarify. The FAA revised the Notice to remove the duplicate reference to “professionalism” and to clarify the training requirements. The revised language requires that training promotes a clear understanding among ODA UMs and administrators regarding the purpose and procedures associated with SMS. Additionally, the training must also address the provisions of the third edition of the ICAO Safety Management Manual (Doc 9859), or any successor edition.

Several commenters requested that FAA clarify training requirements for reporting safety concerns. The FAA agrees to provide clarification and, in response, has revised Notice N 8100.20 to reference the applicable requirements of 14 CFR 183.63 and 14 CFR 183.65.

One commenter observed that the requirement for ODAs to report training completion for existing ODA UMs and administrators is redundant. The commenter reasoned that training completion is already addressed through standard OMT surveillance in FAA Order 8100.15. The FAA agrees and has revised Notice N 8100.20 to remove the seventh bullet from paragraph 8 that would have required the completion date of ODA holder training to be submitted to the ODA Office via the OMT Data Portal.

SMS Resources

One commenter requested additional resources to assist in developing the SMS components of the ethics training. Technical content is available on www.faa.gov to support ODA holders in the development of their training programs.

Editorial Change

FAA corrected a clerical error relating to the implementation timeline in paragraph 7.b of the Notice. The correction changes the number of calendar days from 180 to 194.

This Notice is available to the public at http://www.faa.gov/regulations_policies/orders_notices, on the Dynamic Regulatory System website at https://drs.faa.gov, and in the docket.

Scott A. Geddie,
Manager, AVS-64, Policy and Oversight Integration Section, AVS ODA Office.

[FR Doc. 2026-04297 Filed 3-3-26; 8:45 am]

BILLING CODE 4910-13-P